DEPARTMENT OF COMMERCE

International Trade Administration

[A-549-502]

Circular Welded Carbon Steel Pipes and Tubes from Thailand: Initiation of New Shipper Antidumping Duty Review

AGENCY: Import Administration, International Trade Administration, Department of Commerce.

EFFECTIVE DATE: November 3, 2008.

SUMMARY: On September 30, 2008, the Department of Commerce (the Department) received a request to conduct a new shipper review of the antidumping duty order on circular welded carbon steel pipes and tubes from Thailand. In accordance with section 751(a)(2)(B) of the Tariff Act of 1930, as amended (the Act), and 19 CFR 351.214(d), we are initiating a new shipper review of Pacific Pipe Public Company, Limited (Pacific Pipe), the exporter and producer that requested the new shipper review, for the period of review March 1, 2008 through September 30, 2008.

FOR FURTHER INFORMATION CONTACT: Myrna Lobo or Jacqueline Arrowsmith, AD/CVD Operations, Office 6, Import Administration, International Trade Administration, U.S. Department of Commerce, 14th Street and Constitution Avenue, NW, Washington, DC 20230; telephone: (202) 482-2371 or (202) 482-5255, respectively.

SUPPLEMENTARY INFORMATION:

Background

The Department received a timely request from Pacific Pipe, in accordance with 19 CFR 351.214(c), for a new shipper review of the antidumping duty order on circular welded carbon steel pipes and tubes (Pipes and Tubes) from Thailand. See Antidumping Duty Order; Circular Welded Carbon Steel Pipes and Tubes from Thailand, 51 FR 8341 (March 11, 1986). In addition, pursuant to 19 CFR 351.214(d)(1), Pacific Pipe's request was made within the deadline for a six-month semiannual review. Pacific Pipe identified itself as the producer and exporter of subject merchandise.

As required by 19 CFR 351.214(b)(2)(i) and (iii)(A), Pacific Pipe certified it did not export pipes and tubes to the United States during the period of investigation (POI) (September 1984 through February 1985), and that since the date of initiation of the investigation, it has never been affiliated with any exporter or producer that exported pipes and tubes to the United States during the POI, including any exporter or producer who exported the subject merchandise that was not individually examined. It also submitted documentation establishing the dates on which Pacific Pipe first shipped and entered the subject merchandise to the United States, the volume of that first shipment, and the date of Pacific Pipe's first sale to an unaffiliated customer in the United States. Pacific Pipe stated it had not made any subsequent shipments of pipes and tubes to the United States.

On October 2, 2008, we received a letter from domestic producer Allied Tube and Conduit requesting the Department deny Pacific Pipe's request for a new shipper review because the entry of Pacific Pipe's shipment occurred after the normal six-month period of review (March 1, 2008 through August 31, 2008). Pacific Pipe responded in a letter dated October 16, 2008, stating it had met the requirements for requesting a review.

On October 20, 2008, the Department requested Pacific Pipe to correct its request to reflect the correct period of investigation in its exporter's certification. Pacific Pipe submitted a revised certification on October 21, 2008.

Initiation of New Shipper Review

In accordance with section 751(a)(2)(B) of the Act, and 19 CFR 351.214(d)(1), and based on information on the record, we are initiating a new shipper review for Pacific Pipe. See Memorandum to the File through Barbara E. Tillman, Director, AD/CVD Operations Office 6, Import Administration from the Team, “New Shipper Review Initiation Checklist,” dated October 22, 2008, on file in the Central Records Unit, room 1117, of the main Commerce building. We intend to issue the preliminary results of this review no later than 180 days after the date on which this review is initiated, and the final results of this review within 90 days after the date on which the preliminary results are issued.

Pursuant to 19 CFR 351.214(g)(1)(i)(B), the period of review (POR) for a new shipper review initiated in the month immediately following the semiannual anniversary month, will normally be the six-month period immediately preceding the semiannual anniversary month. However, when the new shipper's first shipment has entered after the POR, the Department may expand the POR, unless an expansion would be likely to prevent the completion of the review within the time limits set by the Department's regulations. See 19 CFR 351.214(f)(2)(ii). The documentation provided by Pacific Pipe indicates that its first shipment entered approximately ten days after the end of the six-month POR, and that its first sale to an unaffiliated customer occurred during the six-month POR. In accordance with 19 CFR 351.214(f)(2)(ii), we are extending the POR by 30 days to September 30, 2008, to capture the entry of Pacific Pipe's first shipment. The Department finds that this delay does not prevent the completion of the review within the time limits set by the Department's regulations. Therefore, the POR for this new shipper review is March 1, 2008 through September 30, 2008.

On August 17, 2006, the Pension Protection Act of 2006 (H.R. 4) was signed into law. Section 1632 of H.R. 4 temporarily suspends the authority of the Department to instruct Customs and Border Protection to collect a bond or other security in lieu of a cash deposit in new-shipper reviews. Therefore, the posting of a bond under section 751(a)(2)(B)(iii) of the Act and 19 CFR 351.214(e) in lieu of a cash deposit is not available in this case. Importers of subject merchandise manufactured and exported by Pacific Pipe must continue to pay a cash deposit of estimated antidumping duties on each entry of subject merchandise at the current all-others rate of 15.67 percent.

Interested parties seeking access to proprietary information in this new shipper review should submit applications for disclosure under administrative protective order in accordance with 19 CFR 351.305 and 351.306. This initiation and notice are published in accordance with section 751(a) of the Act and 19 CFR 351.214(d).

Dated: October 28, 2008.
Stephen J. Claeys,
Deputy Assistant Secretary for Import Administration.

[FR Doc. E8-26169 Filed 10-31-08; 8:45 am]

BILLING CODE 3510-DS-S